DEPARTMENT OF COMMERCE

International Trade Administration

(A-351-819, A-427-811, A-533-808)

Stainless Steel Wire Rods from Brazil, France, and India; Notice of Final Results of Five-year (Sunset) Reviews of Antidumping Duty Orders

AGENCY: Import Administration, International Trade Administration, Department of Commerce.

SUMMARY: On July 1, 2005, the Department of Commerce (the Department) initiated the second sunset reviews of the antidumping duty orders on stainless steel wire rods from Brazil, France and India, pursuant to section 751(c) of the Tariff Act of 1930, as amended (the Act). On the basis of notices of intent to participate and adequate substantive responses filed on behalf of the domestic interested parties and inadequate response from respondent interested parties, the Department has conducted expedited sunset reviews of these antidumping duty orders. As a result of these sunset reviews, the Department finds that revocation of the antidumping duty orders would likely lead to continuation or recurrence of dumping at the level indicated in the “Final Results of Reviews” section of this notice.

EFFECTIVE DATE: November 7, 2005.

FOR INFORMATION CONTACT: Jacqueline Arrowsmith or Dana Mermelstein, Antidumping/Countervailing Duty Operations, Import Administration, International Trade Administration, U.S. Department of Commerce, 14th Street and Constitution Avenue, NW, Washington, DC, 20230; telephone: (202) 482-5255 or (202) 482-1391, respectively.

SUPPLEMENTARY INFORMATION:

Background

On December 1, 1993, the Department published the Antidumping Duty Order: Certain Stainless Steel Wire Rods from India, 58 FR 63335 (December 1, 1993). On January 28, 1994, the Department published the Antidumping Duty Order: Certain Stainless Steel Wire Rods from Brazil, 59 FR 4021 and the Amended Final Determination and Antidumping Duty Order: Certain Stainless Steel Wire Rods from France, 59 FR 4022. On August 2, 2000, the Department published the Continuation of Antidumping Duty Orders: Stainless Steel Wire Rod from Brazil, France, and India, 65 FR 47403.

On July 1, 2005, the Department initiated the second sunset reviews of the antidumping duty orders on stainless steel wire rods from Brazil, France and India, pursuant to section 751(c) of the Act. See Initiation of Five-year (“Sunset”) Reviews, 70 FR 38101 (July 1, 2005). The Department received a notice of intent to participate from Carpenter Technology Corporation, Charter Specialty Steel, and Universal & Alloy Products, Inc. (collectively, the domestic interested parties), within the deadline specified in 19 CFR 351.218(d)(1)(i). The domestic interested parties claimed interested party status under section 771(9)(C) of the Act as U.S. producers of the domestic like product.

We received a complete substantive response to the notice of initiation from the domestic interested parties within the 30-day deadline specified in 19 CFR 351.218(d)(3)(i). We received no responses from respondent interested parties to this proceeding. As a result, pursuant to section 751(c)(3)(B) of the Act and 19 CFR 351.218(e)(1)(ii)(C)(2), the Department conducted expedited sunset reviews of these orders.

Scope of the Orders

Imports covered by these orders are certain stainless steel wire rods (SSWR) from Brazil, France and India. SSWR are products which are hot-rolled or hot-rolled annealed and/or pickled rounds, squares, octagons, hexagons, or other shapes, in coils. SSWR are made of alloy steels containing, by weight 1.2 percent or less of carbon and 10.5 percent of chromium, with or without other elements. These products are only manufactured by hot-rolling and normally sold in coiled form, and are solid cross-section. The majority of SSWR sold in the United States are round in cross-section shape, annealed and pickled. The most common size is 5.5 millimeters in diameter.

The merchandise subject to these orders is currently classifiable under subheadings 7221.00.0005, 7221.00.0015, 7221.00.0030, 7221.00.0045, 7221.00.0075 of the Harmonized Tariff Schedule of the United States (HTSUS).¹ The HTSUS subheadings are provided for convenience and customs purposes. The written description remains dispositive.

¹ The merchandise subject to the scope of these orders was originally classifiable under all of the following HTS subheadings: 7221.00.0005, 7221.00.0015, 7221.00.0020, 7221.00.0030, 7221.00.0040, 7221.00.0045, 7221.00.0060, 7221.00.0075, and 7221.00.0080. HTSUS subheadings 7221.00.0020, 7221.00.0040, 7221.00.0060, 7221.00.0080 are no longer contained in the HTSUS.

Analysis of Comments Received

All issues raised in these reviews are addressed in the Issues and Decision Memorandum for the Expedited Sunset Reviews of the Antidumping Duty Orders on Stainless Steel Wire Rods from Brazil, France, and India; Final Results, from Stephen J. Claeys, Deputy Assistant Secretary for AD/CVD Operations to Joseph A. Spetrini, Acting Assistant Secretary for Import Administration, dated October 31, 2005 (Decision Memo), which is hereby adopted by this notice. The issues discussed in the Decision Memo include the likelihood of continuation or recurrence of dumping and the magnitude of the margins likely to prevail if the orders were revoked. Parties can find a complete discussion of all issues raised in these sunset reviews and the corresponding recommendations in this public memo, which is on file in room B-099 of the main Commerce Building.

In addition, a complete version of the Decision Memo can be accessed directly on the Web at http://ia.ita.doc.gov/frn/. The paper copy and electronic version of the Decision Memo are identical in content.

Final Results of Reviews

We determine that revocation of the antidumping duty order on stainless steel wire rods from Brazil would likely lead to continuation or recurrence of dumping at the following weighted-average percentage margins.

Manufacturers/Exporters/Producers | Weighted-Average Margins
Acos Finos Piratini SA | 26.50 percent
Acos Villares SA | 26.50 percent
Electrometal - Metals Especiais S.A. | 24.63 percent
All Others | 25.88 percent

We determine that revocation of the antidumping duty order on stainless steel wire rods from France would likely lead to continuation or recurrence of dumping at the following weighted-average percentage margins:

Manufacturers/Exporters/Producers | Weighted-Average Margins
Imphy | 24.51 percent
Ugine-Savoie | 24.51 percent
All Others | 24.51 percent

We determine that revocation of the antidumping duty order on stainless steel wire rods from India would likely lead to continuation or recurrence of dumping at the following weighted-average percentage margins:

Manufacturers/Exporters/Producers | Weighted-Average Margins
Mukand Ltd. | 48.80 percent
Sunstar Metals Ltd. | 48.80 percent
Grand Foundry Ltd. | 48.80 percent
All Others | 48.80 percent

This notice also serves as the only reminder to parties subject to administrative protective orders (APO) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing the results and notice in accordance with sections 751(c), 752, and 777(i)(1) of the Act.

Dated: October 31, 2005.
Joseph A. Spetrini,
Acting Assistant Secretary for Import Administration.

[FR Doc. 05-22140 Filed 11-4-05; 8:45 am]

BILLING CODE 3510-DS-S